NATIONAL CREDIT UNION ADMINISTRATION

Sunshine Act Notice of Agency Meeting

TIME AND DATE: 9:00 a.m., Thursday, October 18, 2018.

PLACE: Board Room, 7th Floor, Room 7047, 1775 Duke Street, Alexandria, VA 22314-3428.

STATUS: Closed.

MATTERS TO BE CONSIDERED:

1. Supervisory Enforcement Action. Closed pursuant to Exemptions (6), (8), (9)(ii), and (10).

2. Supervisory Enforcement Action. Closed pursuant to Exemptions (6), (8), (9)(ii), and (10).

3. Request under Section 205(d). Closed pursuant to Exemption (6).

RECESS: 9:45 a.m.

TIME AND DATE: 10:00 a.m., Thursday, October 18, 2018.

PLACE: Board Room, 7th Floor, Room 7047, 1775 Duke Street (All visitors must use Diagonal Road Entrance), Alexandria, VA 22314-3428.

STATUS: Open.

MATTERS TO BE CONSIDERED:

1. NCUA's Rules and Regulations, Federal Credit Union Bylaws.

2. NCUA's Rules and Regulations, Risk-Based Capital.

FOR FURTHER INFORMATION CONTACT: Gerard Poliquin, Secretary of the Board, Telephone: 703-518-6304.

Gerard Poliquin,
Secretary of the Board.

[FR Doc. 2018-22500 Filed 10-11-18; 4:15 pm]

BILLING CODE 7535-01-P